ENVIRONMENTAL PROTECTION AGENCY

40 CFR Part 52

[NC-85-200241(a); FRL-7395-7]

Approval and Promulgation of Implementation Plans, State of North Carolina: Approval of Miscellaneous Revisions to the Mecklenburg County Air Pollution Control Ordinance

AGENCY: Environmental Protection Agency (EPA).

ACTION: Direct final rule.

SUMMARY: On September 24, 1997, The North Carolina Department of Environment and Natural resources submitted revisions to the Mecklenburg County Air Pollution Control Ordinance (MCAPCO). These revisions include the additions and/or modifications of new requirements for permits under MCAPCO Section 1.5200 Air Quality Permits. In Addition, the MCAPCO Sections 1.5300 Enforcement; Variances; Judicial Review and 1.5600 Transportation Facility Procedures are being revised. These revisions of the Mecklenburg County Air Pollution Control Ordinance are necessary to remain consistent with EPA requirements.

DATES: This direct final rule is effective August 29, 2003 without further notice, unless EPA receives adverse comment by July 30, 2003. If adverse comment is received, EPA will publish a timely withdrawal of the direct final rule in the Federal Register and inform the public that the rule will not take effect.

ADDRESSES: All comments should be addressed to: Randy Terry at the EPA, Region 4 Air Planning Branch, 61 Forsyth Street, SW., Atlanta, Georgia 30303.

Copies of the State submittal(s) are available at the following addresses for inspection during normal business hours:

Environmental Protection Agency, Region 4, Air Planning Branch, 61 Forsyth Street, SW., Atlanta, Georgia 30303-8960. Randy Terry, 404/562-9032.

North Carolina Department of Environment and Natural Resources, 512 North Salisbury Street, Raleigh, North Carolina 27604.

Mecklenburg County Department of Environmental Protection 700 North Tryon Street, Charlotte, North Carolina 28202-2236.

FOR FURTHER INFORMATION CONTACT: Randy B. Terry, Regulatory Development Section, Air Planning Branch, Air, Pesticides and Toxics Management Division, Region 4, U.S. Environmental Protection Agency, 61 Forsyth Street, SW., Atlanta, Georgia 30303-8960. The telephone number is (404) 562-9032. Mr. Terry can also be reached via electronic mail at terry.randy@epa.gov.

SUPPLEMENTARY INFORMATION: On September 24, 1997, the State of North Carolina Department of Environment and Natural Resources submitted revisions to amend or adopt multiple sections in the Mecklenburg County Air Pollution Control Ordinance. These amendments address Air Quality Permits, Enforcement; Variances; Judicial Review, and Transportation Facility Procedures. A detailed explanation of each major amendment is detailed below:

Section 1.5200 Air Quality Permits

MCAPCO Section 1.5213 Action on Application; Issuance of Permit has been revised to incorporate the addition of language governing public notice and a thirty day comment period prior to permit issuance, permit applicant's right to administrative hearing, public hearing, stringency of permits and enforceability of permit requirements.

MCAPCO Section 1.5215 Application Processing Schedule has been adopted to set forth the schedule for processing permit applications, modifications, and renewals.

MCAPCO Section 1.5231 Permit Fees has been revised to modify the definitions of “Actual Emissions,” “Burning Approval Inspection,” “Non-attainment Pollutant facility,” “NSPS facility,” “Process ID,” “SIP facility,” “SB (select B),” “Synthetic minor facility,” and “Truck Tank Decal.” These definitions were modified to be consistent with EPA requirements.

MCAPCO Section 1.5232 Issuance, Revocation, and Enforcement of Permits has been modified to indicate the type of factors the Director shall consider during his annual review of permits to determine if a permit modification is required.

Section 1.5300 Enforcement; Variances; Judicial Review

MCAPCO Section 1.5305 Variances has been modified to clarify the process for submitting a State approved variance to the EPA for inclusion into the federally approved SIP.

MCAPCO Section 1.5306 Hearings has been modified to include a subsection that covers the cancellation of an appeal hearing.

Section 1.5600 Transportation Facility Procedures

MCAPCO Section 1.5604 Public Participation has been adopted to list in detail the requirements of the Director with respect to public participation including public notice and public hearings.

MCAPCO Section 1.5607 Application Processing Schedule has been adopted to list the schedule of requirements for processing applications for transportation facility permits.

Final Action

EPA is approving the aforementioned changes to the SIP because the revisions are consistent with Clean Air Act and EPA regulatory requirements. The EPA is publishing this rule without prior proposal because the Agency views this as a noncontroversial submittal and anticipates no adverse comments. However, in the proposed rules section of this Federal Register publication, EPA is publishing a separate document that will serve as the proposal to approve the SIP revision should adverse comments be filed. This rule will be effective August 29, 2003 without further notice unless the Agency receives adverse comments by July 30, 2003.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on August 29, 2003 and no further action will be taken on the proposed rule. Please note that if we receive adverse comment on an amendment, paragraph, or section of this rule and if that provision may be severed from the remainder of the rule, we may adopt as final those provisions of the rule that are not the subject of an adverse comment.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 29, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Nitrogen dioxide, Ozone, Reporting and recordkeeping requirements.

Dated: September 20, 2002.
A. Stanley Meiburg,
Acting Regional Administrator, Region 4.

40 CFR part 52 is amended as follows:

PART 52—[AMENDED]

1. The authority citation for part 52 continues to read as follows:

Authority: 42 U.S.C. 7401 et seq.

Subpart II—North Carolina

2. Section 52.1770(c), Table 3 is amended to read as follows:

a. Under Section 1.5100 by adding in numerical order new entry for “1.5111”;

b. Under Section 1.5200 by adding in numerical order new entries for “1.5212,” “1.5213,” “1.5214,” “1.5215,” “1.5231,” and “1.5232;” and

c. Under Article 1.000 by adding in numerical order new entries for “Section 1.5300” and “Section 1.5600.”

§ 52.1770 Identification of plan.

* * * * *

(c). * * *

Table 3.—EPA Approved Mecklenburg County Regulations
State citation | Title/subject | State effective date | EPA approval date | Explanation
Article 1.000 Permitting Provisions For Air Pollution Sources,Rules and Operating Regulations for Acid Rain Sources, Title V and Toxic Air Pollutants
Section 1.5100 General Provisions and Administrations
* * * * * * *
1.5111 | General Recordkeeping, Reporting and Monitoring Requirements | 07/01/96 | 06/30/03
* * * * * * *
Section 1.5200 Air Quality Permits
* * * * * * *
1.5212 | Applications | 07/01/96 | 06/30/03
1.5213 | Action on Application; Issuance of Permit | 07/01/96 | 06/30/03
1.5214 | Commencement of Operation | 07/01/96 | 06/30/03
1.5215 | Application Processing Schedule | 07/01/96 | 06/30/03
1.5231 | Permit Fees | 07/01/96 | 06/30/03
1.5232 | Issuance, Revocation, and Enforcement of Permits | 07/01/96 | 06/30/03
Section 1.5300 Enforcement; Variances; Judicial Review
1.5305 | Variances | 07/01/96 | 06/30/03
1.5306 | Hearings | 07/01/96 | 06/30/03
Section 1.5600 Transportation Facility Procedures
1.5604 | Public Participation | 07/01/96 | 06/30/03
1.5607 | Application Processing Schedule | 07/01/96 | 06/30/03
* * * * * * *

* * * * *

[FR Doc. 03-172 Filed 6-27-03; 8:45 am]

BILLING CODE 6560-50-P